FEDERAL COMMUNICATIONS COMMISSION

Open Commission Meeting, Thursday, May 18 2017

May 11, 2017.

The Federal Communications Commission will hold an Open Meeting on the subjects listed below on Thursday, May 18, 2017 which is scheduled to commence at 10:30 a.m. in Room TW-C305, at 445 12th Street SW., Washington, DC.

Item No. | Bureau | Subject
1 | Public Safety & Homeland Security | Presentation: The Commission will receive the Public Safety & Homeland Security Bureau's final report on its investigation into the VoLTE 911 outage AT&T Mobility experienced on March 8, 2017.
2 | International | Title: Amendment of Parts 2 and 25 of the Commission's Rules to Facilitate the Use of Earth Stations in Motion Communicating with Geostationary Orbit Space Stations in Frequency Bands Allocated to the Fixed Satellite Service (IB Docket No. 17-95). Summary: The Commission will consider a Notice of Proposed Rulemaking that would both facilitate the deployment of and reduce regulatory burdens on the three types of Fixed-Satellite Service earth stations authorized to transmit while in motion: Earth Stations on Vessels, Vehicle-Mounted Earth Stations, and Earth Stations Aboard Aircraft.
3 | Wireless Tele-Communications | Title: Review of the Commission's Part 95 Personal Radio Services Rules (WT Docket No. 10-119); Petition for Rulemaking of Garmin International, Inc. (RM-10762); Petition for Rulemaking of Omnitronics, LLC (RM-10844). Summary: The Commission will consider a Report and Order that would amend provisions of the Personal Radio Services located in Part 95 of the Commission's rules in order to address two Petitions for Rulemaking, update and modernize various rules to reflect current uses and technologies, remove outdated regulatory requirements, and reorganize the rules to make them easier to read and understand.
4 | Media | Title: Commission Launches Modernization of Media Regulation Initiative (MB Docket No. 17-105). Summary: The Commission will consider a Public Notice that would launch a review of the Commission's rules applicable to media entities and seek comment on what rules should be modified or repealed.
5 | Media | Title: Elimination of Main Studio Rule (MB Docket No. 17-106). Summary: The Commission will consider a Notice of Proposed Rulemaking that would propose to eliminate the Commission's main studio rule, based on a tentative finding that the rule is now outdated and unnecessarily burdensome for broadcast stations.
6 | Wireline Competition | Title: Restoring Internet Freedom (WC Docket No. 17-108). Summary: The Commission will consider a Notice of Proposed Rulemaking that would propose to restore the Internet to a light-touch regulatory framework by classifying broadband Internet access service as an information service and by seeking comment on the existing rules governing Internet service providers' practices.
7 | Wireline Competition | Title: Connect America Fund (WC Docket No. 10-90) Summary: The Commission will consider a Notice of Proposed Rulemaking that proposes to eliminate a rule requiring rural telecommunications service providers receiving USF support to impose higher minimum monthly rates on their customers than the rates paid by some of their urban counterparts, or otherwise lose some USF support. The Commission will also consider a related Order that would freeze the current rate.
* * * * * * *
Consent Agenda
The Commission will consider the following subject listed below as a consent agenda and this item will not be presented individually:
1 | Media | Title: Budd Broadcasting Co., Inc., Application for Renewal of License for Television Station WFXU(TV), Live Oak, Florida. Summary: The Commission will consider an Order adopting a Consent Decree which resolves issues regarding potential violations of the Commission's rules and grants the license renewal application of WFXU(TV).

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-10207 Filed 5-18-17; 8:45 am]

BILLING CODE 6712-01-P